SECURITIES AND EXCHANGE COMMISSION

[Release No. 35-27601; 70-10047]

PG&E Corporation, et al.; Order Authorizing an Extension of Time to File Comments

November 15, 2002.

PG&E Corporation (“PG&E Corp.”), a holding company claiming exemption from registration under section 3(a)(1) of the Public Utility Holding Company Act of 1935, as amended (“Act”) by rule 2, Pacific Gas and Electric Company (“PG&E”), a direct public-utility company subsidiary of PG&E Corp., Newco Energy Corporation (“Newco”), a direct nonutility subsidiary of PG&E, and Electric Generation LLC (“Gen”), a direct nonutility subsidiary of Newco (collectively, “Applicants”), all located in San Francisco, California, have filed an application (“Application”) with the Securities and Exchange Commission (“Commission”) under sections 9(a)(2) and 10 of the Act.

On October 16, 2002, the Commission issued a notice of the Application (Holding Co. Act Release No. 27578). The Commission issued a supplemental notice (Holding Co. Act Release No. 27583) of the Application, which replaced the original notice, on October 23, 2002. Under the supplemental notice, the public many submit to the Commission comments regarding the Application through November 18, 2002.

By letter dated October 23, 2002, the California Public Utilities Commission (“CPUC”) requested an extension of time to file its comments with the Commission (“CPUC Request”) due to “the press of other work.” The CPCU asked that it be allowed to file its comments on or before December 4, 2002.

By letter dated October 30, 2002, Applicants indicated that they oppose the CPUC request, primarily because a further extension of the notice period would delay the ultimate resolution of the Application. However, a further short extension of the notice period is not likely to delay in any significant way a final decision on the Application. Moreover, because the Act is designed to augment State regulation, see Alabama Electric Cooperative v. S.E.C., 353 F.2d 905, 907 (D.C. Cir. 1865), cert. denied 383 U.S. 968 (1966), we believe that it is particularly appropriate to provide a short additional extension of the Notice period at the request of a State Commission.

It is ordered, under the applicable provisions of the Act and rules under the Act, that comments and/or requests for hearing in this matter should be filed in writing by December 4, 2002.

For the Commission, by the Division of Investment Management, pursuant to delegated authority.
J. Lynn Taylor,
Assistant Secretary.

[FR Doc. 02-29538 Filed 11-20-02; 8:45 am]

BILLING CODE 8010-01-M